DEPARTMENT OF COMMERCE

International Trade Administration

[A-570-601]

Tapered Roller Bearings and Parts Thereof, Finished and Unfinished, From the People's Republic of China: Amended Final Results of 2005-2006 Administrative Review

AGENCY: Import Administration, International Trade Administration, Department of Commerce.

SUMMARY: On October 4, 2007, the Department of Commerce (“Department”) published in the Federal Register the final results and partial rescission of the 19th administrative review of the antidumping duty order on tapered roller bearings and parts thereof, finished and unfinished, from the People's Republic of China (“PRC”). See Tapered Roller Bearings and Parts Thereof, Finished or Unfinished, from the People's Republic of China: Final Results of 2005-2006 Administrative Review and Partial Rescission of Review, 72 FR 56724 (October 4, 2007) (“Final Results”), and accompanying Issues and Decision Memorandum (September 24, 2007). The period of review (“POR”) covered June 1, 2005, through May 31, 2006. We are amending our Final Results to correct a ministerial error made in the “Scope of Order” section therein, pursuant to section 751(h) of the Tariff Act of 1930, as amended (“Act”).

EFFECTIVE DATE: December 11, 2007.

FOR FURTHER INFORMATION CONTACT: Paul Stolz, AD/CVD Operations, Office 8, Import Administration, International Trade Administration, U.S. Department of Commerce, 14th Street and Constitution Avenue, NW, Washington, DC 20230; telephone: (202) 482-4474.

SUPPLEMENTARY INFORMATION:

Background

On October 1, 2007, pursuant to 19 CFR 351.224(c)(2), Petitioner¹ filed a timely ministerial error allegation with respect to the “Scope of Order” section in the Final Results. No interested party filed rebuttal comments.

¹ The Timken Company.

Scope of Order

Imports covered by this order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, HTSUS 8482.99.15, HTSUS 8482.99.45, 8483.20.40, 8483.20.80, 8483.30.80, 8483.90.20, 8483.90.30, 8483.90.80, 8708.99.80.15 and 8708.99.80.80. Although the HTSUS item numbers are provided for convenience and customs purposes, the written description of the scope of the order is dispositive.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.”

On October 1, 2007, Petitioner filed a ministerial error allegation with the Department requesting that we correct the narrative description in the “Scope of Order” section of our Final Results. In the Final Results, the Department inadvertently omitted the words “and parts thereof, finished and unfinished” from the first line of the scope description stated in the “Scope of Order” section therein.

After analyzing Petitioner's comment, we have determined, in accordance with 19 CFR 351.224(e), that a ministerial error existed with respect to the description of merchandise covered by the antidumping duty order as stated in the “Scope of Order” section of the Final Results. The Department inadvertently omitted the words “and parts thereof, finished and unfinished” from the first line of the scope description stated in the “Scope of Order” section therein. The correct scope description is stated in the “Scope of Order” section of this notice, above. Correction of this error does not result in a change to final antidumping duty margins, deposit rates, or assessment rates. In addition, the rate for the PRC-wide entity remains unchanged.

Amended Final Results of Review

We determine that the following dumping margin exists for the period June 1, 2005, through May 31, 2006:

TRBs from the PRC
Exporter | Weighted-Average Margin (Percent)
PRC-Entity | 60.95

Assessment Rates

The Department will determine and the U.S. Bureau of Customs and Border Protection (“CBP”) shall assess antidumping duties on all appropriate entries. We intend to issue appropriate assessment instructions directly to CBP 15 days after publication of these amended final results of review.

Cash Deposit Requirements

The following cash deposit rates will be effective upon publication of the amended final results of this administrative review for all shipments of the subject merchandise entered, or withdrawn from warehouse, for consumption on or after the publication date, as provided for by section 751(a)(2)(C) of the Act: (1) the cash deposit rate for previously investigated or reviewed PRC and non-PRC exporters who received a separate rate in a prior segment of the proceeding (which were not reviewed in this segment of the proceeding) will continue to be the rate assigned in that segment of the proceeding; (2) the cash deposit rate for all PRC exporters of subject merchandise that have not been found to be entitled to a separate rate, the cash deposit rate will be the PRC-wide rate of 60.95 percent; and (3) the cash deposit rate for all non-PRC exporters of subject merchandise which have not received their own rate, will be the rate applicable to the PRC exporters that supplied that non-PRC exporter. These requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

These amended final results are published in accordance with sections 751(h) and 777(i)(1) of the Act.

Dated: November 30, 2007.
David M. Spooner,
Assistant Secretary for Import Administration.

[FR Doc. E7-23964 Filed 12-10-07; 8:45 am]

BILLING CODE 3510-DS-S